DEPARTMENT OF COMMERCE

International Trade Administration

[C-475-821]

Stainless Steel Wire Rod from Italy: Final Results of Full Sunset Review of Countervailing Duty Order

AGENCY: Import Administration, International Trade Administration, Department of Commerce.

ACTION: Notice of final results of full sunset review of countervailing duty order of Stainless Steel Wire Rod from Italy.

SUMMARY: On August 1, 2003, the Department of Commerce (“the Department”) initiated a sunset review of the countervailing duty order on Stainless Steel Wire Rod from Italy (68 FR 45219). Because we find that the net countervailable subsidy likely to prevail is de minimis, the Department is revoking this countervailing duty order.

DATES: Effective Date: July 2, 2004.

FOR FURTHER INFORMATION CONTACT: Hilary Sadler, Esq. or Martha Douthit, Office of Policy, Import Administration, International Trade Administration, U.S. Department of Commerce, 14th Street and Constitution Avenue, NW., Washington, DC 20230; telephone: (202) 482-4340 or (202) 482-5050.

SUPPLEMENTARY INFORMATION:

The Applicable Statute

The Department's procedures for the conduct of sunset reviews are set forth in Section 751(c) of the Tariff Act of 1930, as amended (the “Act”), and 19 CFR 351.218. Guidance on methodological and analytical issues relevant to the Department's conduct of sunset reviews is set forth in the Department's Policy Bulletin 98:3—Policies regarding the Conduct of Five-Year Sunset Reviews of Countervailing Duty and Countervailing Duty Orders: Policy Bulletin, 63 FR 18871 (April 16, 1998) (“Sunset Policy Bulletin”).

For purposes of this review, the product covered is Stainless Steel Wire Rod (“SSWR”) from Italy. Certain stainless steel wire rod (SSWR or subject merchandise) comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, and are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire drawing machines are set up to draw. The range of SSWR sizes normally sold in the United States is between 0.20 inches and 1.312 inches in diameter. Two stainless steel grades SF20T and K-M35FL are excluded from the scope of the investigation. The percentages of chemical makeup for the excluded grades are as follows:

SF20T:

Carbon—0.05 max

Manganese—2.00 max

Phosphorous—0.05 max

Sulfur—0.15 max

Silicon—1.00 max

Chromium—19.00/21.00

Molybdenum—1.50/2.50

Lead—added (0.10/0.30)

Tellurium—added (0.03 min)

K-M35FL:

Carbon—0.015 max

Manganese—0.40 max

Phosphorous—0.04 max

Sulfur—0.03 max

Silicon—0.70/1.00

Chromium—12.50/14.00

Nickel—0.30 max

Lead—added (0.10/0.30)

Aluminum—0.20/0.35

The products covered by this order are currently classifiable under subheadings 7221.00.0005, 7221.00.0015, 7221.00.0030, 7221.00.0045, and 7221.00.0075 of the Harmonized Tariff Schedule of the United States (HTSUS). Although the HTSUS subheadings are provided for convenience and Customs purposes, the written description of the scope of this order is dispositive.

Background

On September 15, 1998, the Department published the countervailing duty order on SSWR from Italy. See Notice of Countervailing Duty Order: Stainless Steel Wire Rod from Italy, 63 FR 49334 (September 15, 1998). The Department completed only one administrative review of the subject countervailing duty order. See Stainless Steel Wire Rod From Italy: Notice of Final Results of Countervailing Duty Administrative Review, 67 FR 63619 (October 15, 2002) (“Administrative Review”). Pursuant to section 751(c) of the Act and 19 CFR 351.218(c), the Department initiated a sunset review of this order by publishing notice of the initiation in the Federal Register 68 FR 45219 (August 1, 2003). In addition, as a courtesy to interested parties, the Department sent letters, via certified and registered mail, to each party listed on the Department's most current service list for this proceeding to inform them of the automatic initiation of a sunset review of this order.

The Department received substantive responses from Carpenter Technology Corporation,¹ (the domestic interested party), Cogne Acciai Speciali S.r.l. (“CAS”), the Government of Italy, and the European Union within the applicable deadlines specified in 19 CFR 351.218(d). See Response of Carpenter Technology (August 18, 2003), CAS (September 2, 2003), GOI (August 28, 2003), and the EU (August 29, 2003). However, pursuant to 19 CFR 351.218(e)(2)(i), the Department determined to conduct a full (240-day) sunset review of this order. See Memorandum for Ronald K. Lorentzen, Re: Stainless Steel Wire Rod from Italy, Adequacy of Respondent Interested Parties' Response to the Notice of Initiation (September 24, 2003).

¹ Carpenter Technology, AL Tech Specialty Corporation, Republic Engineered Steels, and Talley Metals Technology, Inc. filed the original petition. Since the order, Carpenter Technology acquired Talley Metals Technology, Inc.

In the Issues and Decision Memorandum for the Determination under Section 129 of the Uruguay Round Agreements Act: Final Affirmative Countervailing Duty Determination: Stainless Steel Wire Rod from Italy, October 24, 2003 (“Section 129 Memo”), the Department determined that the privatization of CAS was at arm's-length and for fair-market-value, and that allegations of broader market distortions were not sufficiently supported. Accordingly, any allocable, non-recurring subsidies granted to CAS prior to its privatization were extinguished in their entirety and, therefore, are non-countervailable. On November 7, 2003, the U.S. Trade Representative requested the Department, pursuant to section 129(b)(4) of the Uruguay Round Agreements Act, to implement the determination in the Section 129 Memo. See Notice of Implementation under Section 129 of the Uruguay Round Agreements Act, 68 FR 64858, (November 17, 2003). Accordingly, the Department excluded CAS from the countervailing duty order on certain stainless steel wire rod from Italy and revised the “all others rate.” Id., at 16.

On April 21, 2004, the Department received identical case briefs from the GOI and the EC. See Case Briefs from the EC and the GOI re: Sunset Review of the Countervailing Duty Investigation: Stainless Steel Wire Rod from Italy (April 19, 2004). We received no case brief or rebuttal from Carpenter Technology.

Because CAS has been excluded from the original order as a result of the Section 129 determination and is therefore no longer an interested party in this sunset proceeding, its comments will not be addressed. In addition, any comments submitted by Carpenter Technology, the EC, and the GOI pertaining to CAS or to programs specific to CAS have been rendered moot by CAS’s exclusion and will not be addressed.

Analysis of Comments Received

All issues raised in this case are addressed in the “Issues and Decision Memorandum” (“Decision Memo”) from Ronald K. Lorentzen, Acting Director, Office of Policy, Import Administration, to James J. Jochum, Assistant Secretary for Import Administration, dated June 27, 2004, which is hereby adopted by this notice. The issues discussed in the Decision Memo include the likelihood of continuation or recurrence of dumping and the magnitude of the margin likely to prevail if the finding were to be revoked. Parties can find a complete discussion of all issues raised in this review and the corresponding recommendations in this public memorandum, which is on file in room B-099 of the main Commerce Building.

In addition, a complete version of the Decision Memo can be accessed directly on the Web at http://ia.ita.doc.gov/frn, under the heading “July 2004.” The paper copy and electronic version of the Decision Memo are identical in content.

Determination To Revoke

Under section 751(d)(2) of the Act, in the case of a sunset review, the Department will revoke a countervailing duty order unless it determines that the countervailable subsidy would be likely to continue or recur, and the International Trade Commission (“ITC”) determines that material injury would be likely to continue or recur. Based on the Department's analysis of the subsidy programs at issue in this case, we have determined that the level of subsidization likely to prevail, were the order revoked, is below the de minimis threshold. See Issues and Decision Memorandum. Therefore, as a result of this sunset review, the Department finds that revocation of the countervailing duty order would not be likely to lead to continuation or recurrence of a countervailable subsidy. Pursuant to section 751(d)(2) of the Act, the Department will revoke this countervailing duty order, effective on September 15, 2003, the fifth anniversary date of publication in the Federal Register of the order, consistent with 19 CFR 351.222(i)(2)(i).

Notification of the ITC

As discussed in section III.B of the Policy Bulletin, the Department normally will provide the ITC with the net countervailable subsidy that was determined in the original investigation. However, the purpose of the net countervailable subsidy in the context of sunset review is to provide the ITC with a rate which represents the countervailable rate that is likely to prevail if the order is revoked, and the Department has therefore adjusted the investigation rate as provided under section III.B of the Policy Bulletin. See section 752(b)(1)(B) of the Act. As noted above, the rate is de minimis.

This five-year (“sunset”) review and notice are in accordance with sections 751(c), 752, and 777(i)(1) of the Act.

Dated: June 28, 2004.
Jeffrey A. May,
Acting Assistant Secretary for Import Administration.

[FR Doc. 04-15105 Filed 7-1-04; 8:45 am]

BILLING CODE 3510-DS-P